DEPARTMENT OF ENERGY

Federal Energy Regulatory Commission

Notice of Commission Staff Attendance

The Federal Energy Regulatory Commission hereby gives notice that members of the Commission's staff may attend the following meetings related to the transmission planning activities of the Southwest Power Pool, Inc. (SPP):

SPP Strategic Planning Committee Task Force on Order No. 1000 Meeting, January 18, 2012, 3:30-6:30 p.m., Local Time.

SPP Strategic Planning Committee Meeting, January 19, 2012, 8 a.m.-3 p.m., Local Time.

The above-referenced meetings will be held at:

Intercontinental Stephen F. Austin, 701 Congress Avenue, Austin, TX 78701.

The above-referenced meetings are open to stakeholders.

Further information may be found at www.spp.org.

The discussions at the meetings described above may address matters at issue in the following proceedings:

Docket No. ER09-35-001, Tallgrass Transmission, LLC

Docket No. ER09-36-001, Prairie Wind Transmission, LLC

Docket No. ER09-36-002, Prairie Wind Transmission, LLC

Docket No. ER09-548-001, ITC Great Plains, LLC

Docket No. ER11-4105-000, Southwest Power Pool, Inc.

Docket No. EL11-34-001, Midwest Independent Transmission System Operator, Inc.

For more information, contact Luciano Lima, Office of Energy Market Regulation, Federal Energy Regulatory Commission at (202) 502-6210 or luciano.lima@ferc.gov.

Dated: January 12, 2012.
Kimberly D. Bose,
Secretary.

[FR Doc. 2012-1081 Filed 1-19-12; 8:45 am]

BILLING CODE 6717-01-P